DEPARTMENT OF ENERGY

Federal Energy Regulatory Commission

Notice of Revocation of Market-Based Rate Authority and Termination of Electric Market-Based Rate Tariff

| Docket Nos.
Electric Quarterly Reports | ER02-2001-020
Liberty Power Delaware LLC | ER12-2401-000
Liberty Power Wholesale Supply, LLC | ER12-1707-000
Entrust Energy East, Inc | ER15-1557-001
PowerOne Corporation | ER14-209-001

On January 31, 2022, the Commission issued an order announcing its intent to revoke the market-based rate authority of several public utilities that had failed to file their required Electric Quarterly Reports.¹ The Commission directed those public utilities to file the required Electric Quarterly Reports within 15 days of the date of issuance of the order or face revocation of their authority to sell power at market-based rates and termination of their electric market-based rate tariffs.²

¹ Electric Quarterly Reports, 178 FERC ¶ 61,077 (2022) (January 31 Order).

² Id. at Ordering Paragraph A.

The time period for compliance with the January 31 Order has elapsed. The above-captioned companies failed to file their delinquent Electric Quarterly Reports. The Commission hereby revokes, effective as of the date of issuance of this notice, the market-based rate authority and terminates the electric market-based rate tariff of each of the companies who are named in the caption of this order.

Dated: April 25, 2022.
Debbie-Anne A. Reese,
Deputy Secretary.

[FR Doc. 2022-09280 Filed 4-28-22; 8:45 am]

BILLING CODE 6717-01-P